SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Water Source Approval—Issued Under 18 CFR 806.22(f)

1. LPR Energy, LLC; Pad ID: Snow Shoe 2; ABR-201011007.R2; Snow Shoe Township, Centre County, Pa.; Consumptive Use of Up to 4.0000 mgd; Approval Date: May 4, 2021.

2. LPR Energy, LLC; Pad ID: Snow Shoe 4; ABR-201011042.R2; Snow Shoe Township, Centre County, Pa.; Consumptive Use of Up to 4.0000 mgd; Approval Date: May 4, 2021.

3. Chief Oil & Gas, LLC; Pad ID: PMG Annie Drilling Pad #1; ABR-201103015.R2; Springville Township, Susquehanna County; Pa.; Consumptive Use of Up to 2.0000 mgd; Approval Date: May 4, 2021.

4. XTO Energy, Inc.; Pad ID: PA Tract B1H; ABR-201104023.R2; Chapman Township, Clinton County, Pa.; Consumptive Use of Up to 4.0000 mgd; Approval Date: May 4, 2021.

5. Frontier Natural Resources, Inc.; Pad ID: Winner 1; ABR-201101027.R2; West Keating Township, Clinton County, Pa.; Consumptive Use of Up to 4.0000 mgd; Approval Date: May 5, 2021.

6. Diversified Oil & Gas, LLC; Pad ID: Lundy Well Pad; ABR-201103010.R2; Gamble Township, Lycoming County, Pa.; Consumptive Use of Up to 3.0000 mgd; Approval Date: May 5, 2021.

7. Range Resources—Appalachia, LLC; Pad ID: Gulf USA #63H Drilling Pad; ABR-201103043.R2; Snow Shoe Township, Centre County, Pa.; Consumptive Use of Up to 1.0000 mgd; Approval Date: May 5, 2021.

8. SWN Production Company, LLC; Pad ID: Broughton; ABR-201012001.R2; Morris Township, Tioga County, Pa.; Consumptive Use of Up to 7.50000 mgd; Approval Date: May 7, 2021.

9. Pennsylvania General Energy Company, L.L.C.; Pad ID: COP Tract 293 Pad F; ABR-201105001.R2; Cummings Township, Lycoming County, Pa.; Consumptive Use of Up to 3.0000 mgd; Approval Date: May 7, 2021.

10. Cabot Oil & Gas Corporation; Pad ID: GeigerK P1; ABR-202105001; Bridgewater Township, Susquehanna County, Pa.; Consumptive Use of Up to 5.0000 mgd; Approval Date: May 7, 2021.

11. M4 Energy, LLC; Pad ID: Triana-Young Pad A; ABR-20100677.R2; Hector Township, Potter County, Pa.; Consumptive Use of Up to 4.0000 mgd; Approval Date: May 10, 2021.

12. Range Resources—Appalachia, LLC; Pad ID: Shipman, James Unit #1H—#2H Drilling Pad; ABR-201104014.R2; Lewis Township, Lycoming County, Pa.; Consumptive Use of Up to 4.0000 mgd; Approval Date: May 10, 2021.

13. Range Resources—Appalachia, LLC; Pad ID: Null, Eugene Unit #2H-#7H Drilling Pad; ABR-201104011.R2; Lewis Township, Lycoming County, Pa.; Consumptive Use of Up to 4.0000 mgd; Approval Date: May 10, 2021.

14. Chesapeake Appalachia, L.L.C.; Pad ID: Hess; ABR-201105004.R2; Rome Township, Bradford County, Pa.; Consumptive Use of Up to 7.5000 mgd; Approval Date: May 11, 2021.

15. Chesapeake Appalachia, L.L.C.; Pad ID: Ramblinrose; ABR-201105003.R2; Tuscarora Township, Bradford County, Pa.; Consumptive Use of Up to 7.5000 mgd; Approval Date: May 11, 2021.

16. Chief Oil & Gas, LLC; Pad ID: SGL-12 M NORTH UNIT PAD B; ABR-202105002; Leroy Township, Bradford County, Pa.; Consumptive Use of Up to 2.5000 mgd; Approval Date: May 11, 2021.

17. Chesapeake Appalachia, L.L.C.; Pad ID: Lomison Inc.; ABR-201105023.R2; Burlington Township, Bradford County, Pa.; Consumptive Use of Up to 7.5000 mgd; Approval Date: May 27, 2021.

18. Chesapeake Appalachia, L.L.C.; Pad ID: LRJ; ABR-201105011.R2; Rush Township, Susquehanna County, Pa.; Consumptive Use of Up to 7.5000 mgd; Approval Date: May 27, 2021.

19. SWN Production Company, LLC; Pad ID: Sadecki Well Pad; ABR-201105020.R2; Liberty Township, Susquehanna County, Pa.; Consumptive Use of Up to 4.0000 mgd; Approval Date: May 27, 2021.

20. Chesapeake Appalachia, L.L.C.; Pad ID: Karp; ABR-201105027.R2; Lemon Township, Wyoming County, Pa.; Consumptive Use of Up to 7.5000 mgd; Approval Date: May 31, 2021.

21. SWN Production Company, LLC; Pad ID: Mitchell Well Pad; ABR-201105026.R2; Franklin Township, Susquehanna County, Pa.; Consumptive Use of Up to 4.0000 mgd; Approval Date: May 31, 2021.

Approvals By Rule—Issued Under 18 CFR 806.22(f)—Revocation

1. Seneca Resources Company, LLC; Pad ID: Hector 2; ABR-201605004; Hector Township, Potter County, Pa.; Revocation Date: May 24, 2021.

2. Seneca Resources Company, LLC; Pad ID: Swingle 591; ABR-201012018.R2; Richmond Township, Tioga County, Pa.; Revocation Date: May 24, 2021.

3. Seneca Resources Company, LLC; Pad ID: Costanzo 818; ABR-201006112.R1 Chatham Township, Tioga County, Pa.; Revocation Date: May 25, 2021.

Authority: Pub. L. 91-575, 84 Stat. 1509 et seq., 18 CFR parts 806, 807, and 808.

Dated: June 24, 2021.
Jason E. Oyler,
General Counsel and Secretary to the Commission.

[FR Doc. 2021-13831 Filed 6-28-21; 8:45 am]

BILLING CODE 7040-01-P